SOCIAL SECURITY ADMINISTRATION

20 CFR Parts 404, 405, and 416

[Docket No. SSA-2007-0053]

Compassionate Allowances for Brain Injuries; Office of the Commissioner, Hearing

AGENCY: Social Security Administration (SSA).

ACTION: Announcement of Public Hearing.

SUMMARY: We are considering ways to quickly identify diseases and other serious medical conditions that obviously meet the definition of disability under the Social Security Act (Act) and can be identified with minimal objective medical information. We are calling this method “Compassionate Allowances.” In December 2007 and April 2008, we held two Compassionate Allowance public hearings. These hearings concerned rare diseases and cancers, respectively. This hearing is the third in the series. The purpose of this hearing is to obtain your views about the advisability and possible methods of identifying and implementing compassionate allowances for children and adults with brain injuries. We plan to address other medical conditions at subsequent hearings.

DATES: This hearing will be held on November 18, 2008, between 8:30 a.m. and 5 p.m. Eastern Standard Time (EST), at Ft. Myer, VA. The hearing will be held at 204 Lee Avenue, Ft. Myer, VA, 22211-1199, at the Ft. Myer Officers Club. While the public is welcome to attend the hearing, only invited witnesses will be permitted to participate. Ft. Myer is open to members of the public willing to undergo security screening. You may also watch the proceedings live via webcast beginning at 9 a.m. Eastern Standard Time (EST). You may access the webcast for the hearing on the Social Security Administration Web page at http://www.socialsecurity.gov/compassionateallowances/hearings1108.htm.

ADDRESSES: You may submit up to two pages of written comments about the compassionate allowances initiative with respect to children and adults with brain injuries, as well as topics covered at the hearing by: (1) E-mail addressed to Compassionate.Allowances@ssa.gov or (2) mail to Diane Braunstein or Nancy Schoenberg, Office of Compassionate Allowances and Disability Outreach, ODP, ORDP, Social Security Administration, 4671 Annex, 6401 Security Boulevard, Baltimore, MD 21235-6401.

FOR FURTHER INFORMATION CONTACT: Compassionate.Allowances@ssa.gov. You may also mail inquiries about this meeting to Diane Braunstein or Nancy Schoenberg, Office of Compassionate Allowances and Disability Outreach, ODP, ORDP, Social Security Administration, 4671 Annex, 6401 Security Boulevard, Baltimore, MD 21235-6401. For information on eligibility or filing for benefits, call our national toll-free number 1-800-772-1213 or TTY 1-800-325-0778, or visit our Internet site, Social Security Online, at http://www.socialsecurity.gov.

SUPPLEMENTARY INFORMATION:

Background

Under titles II and XVI of the Act, we pay benefits to individuals who meet our rules for entitlement and have medically determinable physical or mental impairments that are severe enough to meet the definition of disability in the Act. The rules for determining disability can be very complicated, but some individuals have such serious medical conditions that their conditions obviously meet our disability standards. To better address the needs of these individuals, we are implementing the Compassionate Allowance initiative to quickly identify diseases and other medical conditions that invariably qualify under the Listing of Impairments based on minimal objective medical information.

Will We Respond to Your Comments?

We will carefully consider your comments, although we will not respond directly to comments sent in response to this notice or the hearing.

Additional Hearings

We held a hearing on rare diseases on December 4 and 5, 2007, and a hearing on cancers on April 7, 2008. You may access the transcripts of both hearings at http://www.socialsecurity.gov/compassionateallowances. We plan to hold additional hearings on other conditions and will announce those hearings later with notices in the Federal Register.

(Catalog of Federal Domestic Assistance Program Nos. 96.001, Social Security—Disability Insurance; 96.006, Supplemental Security Income. (72 Fed. Reg. at 62608)).

Dated: November 3, 2008.
Michael J. Astrue,
Commissioner of Social Security.

[FR Doc. E8-26682 Filed 11-7-08; 8:45 am]

BILLING CODE 4191-02-P